DEPARTMENT OF COMMERCE

National Oceanic and Atmospheric Administration

50 CFR Part 660

[Docket No. 221206-0261]

RIN 0648-BM72

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries for the 2024 fishing year. This action is intended to allow commercial and recreational fishing vessels to access more abundant groundfish stocks while protecting overfished and depleted stocks.

DATES: This final rule is effective January 1, 2024.

ADDRESSES: Electronic Access: This rule is accessible via the internet at the Office of the Federal Register website at https://www.federalregister.gov. Background information and documents are available at the Pacific Fishery Management Council's website at https://www.pcouncil.org/ including and supporting information for the Council's recommendations at the November 2023 meeting.

FOR FURTHER INFORMATION CONTACT: Keeley Kent, phone: 206-247-8252 or email: keeley.kent@noaa.gov.

SUPPLEMENTARY INFORMATION:

Background

The Pacific Coast Groundfish Fishery Management Plan (PCGFMP) and its implementing regulations at title 50 in the Code of Federal Regulations (CFR), part 660, subparts C through G, regulate fishing for over 90 species of groundfish in the exclusive economic zone (EEZ) off the coasts of Washington, Oregon, and California. The Pacific Fishery Management Council (Council) develops groundfish harvest specifications and management measures for 2 year periods (i.e., a biennium). NMFS published the final rule to implement harvest specifications and management measures for the 2023-2024 biennium for most species managed under the PCGFMP on December 16, 2022 (87 FR 77007). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

Pacific Coast groundfish fisheries are managed using harvest specifications or limits (e.g., overfishing limits [OFL], acceptable biological catch [ABC], annual catch limits [ACL], and harvest guidelines [HG]) recommended biennially by the Council and based on the best scientific information available at that time (50 CFR 660.60(b)). During development of the harvest specifications, the Council also recommends management measures (e.g., Annual Catch Targets [ACTs], trip limits, area closures, and bag limits) that are meant to mitigate catch so as not to exceed the harvest specifications. The harvest specifications and mitigation measures developed for the 2023-2024 biennium used data through the 2021 fishing year. Each of the adjustments to mitigation measures discussed below are based on updated fisheries information that was unavailable when the analysis for the current harvest specifications was completed. As new fisheries data becomes available, adjustments to mitigation measures are projected so as to help harvesters achieve but not exceed the harvest limits.

At its November 2023 meeting, the Council recommended that NMFS extend the duration of several measures implemented through an inseason published on October 2, 2023 (88 FR 67656), to continue the minimization of mortality of quillback rockfish off California for the 2024 fishing season. The Council also recommended NMFS reset trip limits for several species for the 2024 fishing season.

Quillback Rockfish Off California

Under current management, quillback rockfish are a contributing species within the Minor Nearshore Rockfish complex north and south of 40°10′ N lat. The harvest specifications for this species (ACL, ABC, and OFL) contribute to the harvest specifications of the complex. Amendment 31 to the PCGFMP, which was approved on November 13, 2023, defined quillback rockfish as three separate stocks (Washington, Oregon, and California).

In an analysis for the November 2021 Council meeting, a report by the Groundfish Management Team (GMT) showed continued exceedances of the OFL contribution of quillback rockfish to the nearshore rockfish complex every year in all 4 years between 2017 and 2020 (Agenda Item E.3.a GMT Report 2, November 2021). Additionally, the Council noted that quillback rockfish has a 2.22 vulnerability score, making it one of the most vulnerable rockfishes in the PCGFMP. For these reasons, the Council recommended species-specific ACTs for quillback rockfish off the coast of California as part of the 2023-24 harvest specifications and management measures (87 FR 77007, December 16, 2022) to support better tracking of mortality in light of the depleted nature of quillback off California.

Quillback rockfish have a shared commercial and recreational species-specific ACT of 0.87 metric tons (mt) for the area between 42° N lat. and 40°10′ N lat. and 0.89 mt for south of 40°10′ N lat. (see 50 CFR part 660, tables 1a and 2a to subpart C). The ACTs were set under the 2023-24 Groundfish Harvest Specifications and Management Measures action in response to the 2021 stock assessment for quillback rockfish off the coast of California, which has been deemed the best scientific information available by NOAA Fisheries and the scientific advisors to the Council. Given quillback rockfish are currently managed in a stock complex, the new ACT was meant to formalize the ACL contributions for management purposes. Setting the ACTs equal to the ACL contributions allows the Council to recommend necessary management measures inseason when the ACL contribution is met or projected to be met.

At the November 2023 Council meeting, the PFMC recommended inseason changes to commercial fisheries in order to limit the mortality of quillback rockfish off California for 2024. The ACTs, and OFL contributions for the stock of quillback rockfish off California were estimated to be significantly exceeded in 2023 (see 88 FR 67656, October 2, 2023, for more information). Further action relative to mortality of quillback rockfish off California in the recreational fisheries is expected at the March 2024 PFMC meeting.

At the November 2023 meeting, the Council's GMT conducted analysis to see if there were any particular aspects of the fishery (by sector, location, gear type, etc.) where quillback were most commonly encountered, in order to narrow the scope of potential restrictions that may be most effective at reducing further impacts to quillback rockfish for 2024.

The limited available spatial data indicated that quillback rockfish are very rarely encountered south of 36° N latitude. Additionally, the data available suggest that quillback rockfish off California north of 36° N latitude are rarely encountered in waters deeper than 50 fathoms (fm) (91.4 meters (m)) but that the depth ranges where they are most commonly encountered varies somewhat by latitude with more attributed catches in shallower depths (e.g., 11-30 fathoms, 20.1-54.9 m) in the more northern areas and deeper than 20 fathoms (36.6 m) in southern parts of the California coast.

The GMT also looked at whether the legal non-bottom contact hook-and-line gear allowed in the non-trawl rockfish conservation area (RCA) (50 CFR 660.330(b)(3)) has been encountering quillback rockfish. This gear was a new management measure under the 2023-24 harvest specifications and management measures (87 FR 77007, December 16, 2022) within the non-trawl RCA in order to provide additional opportunity to commercial non-trawl fisheries to target healthy stocks while relieving pressure on depleted or constraining nearshore stocks. While data is limited so far, the gear configurations have shown to have relatively low bycatch of groundfish species of concern while being able to harvest healthy midwater rockfish. In the 14 years the three Experimental Fishing Permits (EFPs) operated that used similar gear (Emley-Platt, Real Good Fish, and Oregon Cook EFP), a total of only three quillback rockfish were caught. Further analysis showed that of the 108 mt of total catch in all three EFPs combined, approximately only 3 percent was quillback rockfish.

In light of this new information, the Council recommended limiting the reductions in trip limits by gear type and by area in order to maintain some fishing opportunity with limited quillback rockfish impacts, and focusing action on the sectors with greater quillback impacts. The recommendations from the Council are projected to reduce discard mortality of quillback rockfish in order to address depletion while minimizing the economic impact to fishing communities to the extent possible.

The Council recommended and, by revising tables 2 North and South to part 660, subpart E, and tables 3 North and South to part 660, subpart F, NMFS is implementing an expansion of the shoreward extent of the non-trawl RCA off California. Currently, the shoreward boundary off California is either 40 or 50 fathoms (73 meters (m) or 91 m), depending on latitude. This action moves the boundary to the shoreward boundary of the EEZ (3 nautical miles (5556 m) from shore). This closure reduces access to demersal co-occurring targets in the range of quillback rockfish. While new area will be closed to bottom-contact gears, legal non-bottom contact hook-and-line gear are allowed in the non-trawl RCA (50 CFR 660.330(b)(3)). This change to the shoreward extent of the non-trawl RCA allows fishery participants to continue to access healthy midwater stocks inside the non-trawl RCA, consistent with § 660.330(b)(3).

Additionally, the Council recommended and, by revising tables 2 North and South to part 660, subpart E, and tables 3 North and South to part 660, subpart F, NMFS is extending the non-trawl RCA south of 34° 27′ N lat. in the 100-150 fm (183 m-274 m) depths to include additional islands and banks that were formerly in the Cowcod Conservation Area (CCA) (for more information see 88 FR 59838, August 30, 2023). This change, which expands the non-trawl RCA, is being promulgated as a precautionary measure because recreational fishing may increase fishing pressure in areas which were historically closed for some or all of the year, and this anticipated increase in anglers may increase catch of constraining species such as copper rockfish, vermilion/sunset rockfish and/or species with prohibited retention such as bronzespotted rockfish and cowcod. Similarly, commercial fisheries operating in these depths around the islands and banks may increase the likelihood of interactions with prohibited species (e.g., cowcod and bronzespotted rockfish). Additionally, the consistency in areas formerly closed by the CCA with the RCA lines in use along the mainland coast and Channel Islands south of Point Conception (34° 27′ N lat.) will reduce regulatory complexity for stakeholders.

The Council also recommended and, by modifying tables 2 North and South to part 660, subpart E, and tables 3 North and South to part 660, subpart F, NMFS is implementing a zero pound trip limit for limited entry (LE) and open access (OA) fisheries between 42° N latitude and 36° N latitude for the following targets for all cumulative periods in 2024: Nearshore Rockfish complex and cabezon. These targets are only found in depths co-occurring with quillback rockfish, so in order to reduce quillback discard mortality, fishing on these targets is not allowed.

The Council recommended and, by modifying tables 2 North and South to part 660, subpart E, and tables 3 North and South to part 660, subpart F, NMFS is implementing an area-based trip limit for LE and OA fisheries between 42° N latitude and 36° N latitude seaward of the non-trawl RCA for the following targets for all cumulative periods in 2024: lingcod and other flatfish. Inside of the non-trawl RCA, the trip limit is zero pounds for LE and OA fisheries for both lingcod and other flatfish, which co-occur with quillback rockfish, in order to reduce quillback discard mortality. The area-based trip limits will allow access to these stocks in deeper waters, seaward of the non-trawl RCA, where they do not co-occur with quillback rockfish, providing fishing opportunity in this area.

Minor Shelf Rockfish; Vermilion/Sunset Rockfish

Vermilion/Sunset rockfish off California are currently managed as part of the Minor Shelf Rockfish complex, south of 40°10′ N latitude; as well as the Minor Shelf Rockfish complex north of 40°10′ N latitude, but only in the area between 42° and 40°10′ N lat. For 2024, the southern complex has an ACL of 1,469 metric tons (mt), and vermilion/sunset rockfish has an ACL contribution of 281.29 mt; the northern complex has an ACL of 1,278 mt, and vermilion/sunset rockfish has an ACL contribution of 6.62 mt within it.

With the changes described above, which will shift fishing effort from the nearshore out to the shelf, concerns about limiting shelf stocks, specifically minor shelf rockfish and vermilion/sunset rockfish, arose. The GMT analyzed reductions to the trip limits for Minor Shelf Rockfish in the LE and OA sectors off California. Based on the GMT analysis, the Council recommended reducing the trip limits, in anticipation of increased effort. The expected mortality by sector under current limits and under the recommended changes are shown in table 1.

Table 1—Options Considered by the Council To Adjust Minor Shelf Rockfish Trip Limits by Period in the LEN (Limited Entry North) (40°10′-42° N Lat.), LES (Limited Entry South) (40°10′-36° N Lat.), OAN (Open Access North) (40°10′-42° N Lat.), and OAS (Open Access North) (40°10′-36° N Lat.) Sectors, Associated Landings Projections, and Total Landings
[Bolded row represents the GMT recommendation, which was adopted by the Council. There is no geographic harvest target to compare estimated total landings against the trip limit change due to the split at 36° N lat.]
Option | Sector | Trip limit | Est. total landings (mt) | Estimated total landings (mt)
No Action | LEN | 800 lbs. (363 kg)/mo | 0.6 | 101
| OAN | 800 lbs. (363 kg)/mo | 5.0
| LES | 8,000 lbs. (3,629 kg)/2 mos | 11.8
| OAS | 4,000 lbs. (1,814 kg)/2 mos | 83.6
Option 1 | LEN | 800 lbs. (363 kg)/mo | 0.6 | 84.9
| OAN | 600 lbs. (272 kg)/mo | 4.7
| LES | 6,000 lbs. (2,722 kg)/2 mos | 11.6
| OAS | 3,000 lbs. (1,361 kg)/2 mos | 68.0
Option 2 | LEN | 800 lbs. (363 kg)/mo | 0.6 | 71.8
| OAN | 400 lbs. (181 kg)/mo | 4.6
| LES | 4,000 lbs. (1,814 kg)/2 mos | 10.6
| OAS | 2,000 lbs. (907 kg)/2 mos | 56.0

Additionally, within the Minor Shelf Rockfish Complex, vermilion rockfish south of 40°10′ ACL contribution is projected to be exceeded in 2023 and therefore the Council determined that additional trip limit reductions should be taken for 2024. Consequently, the Council recommended and NMFS is approving this change by modifying tables 2 and 3 North and South for all cumulative periods in 2024. The expected mortality by sector under current limits and under the recommended changes are shown in table 2.

Table 2—Projected Landings of Vermilion/Sunset, Vermilion/Sunset Allocation, and Projected Percentage of Vermilion/Sunset Attained Through the End of the Year by Current Trip Limit and Fishery
[LEN (40°10′ N lat.-34°27′ N lat.). LES (south of 34°27′ N lat.). OAN (40°10′ N lat.-34°27′ N lat.). OAS (south of 34°27′ N lat.).
Bolded row represents the GMT recommendation which was recommended by the Council to NMFS.]
| Sector, option | Trip limit | Landing projection (mt) | Est. total landings (mt) | Est. discard mortality (mt) | Est. total mortality (mt)
No Action | LEN | 500 lbs. (227 kg)/2 mos | 2.4 | 90.9 | 0.1 | 91.0
| OAN | 400 lbs. (181 kg)/2 mos | 17.8
| LES | 3,000 lbs. (1,361 kg)/2 mos | 35.1
| OAS | 1,200 lbs. (544 kg)/2 mos | 35.6
Option 1 | LEN | 500 lbs. (227 kg)/2 mos | 2.4 | 77.7 | 0.1 | 77.8
| OAN | 300 lbs. (136 kg)/2 mos | 13.4
| LES | 3,000 lbs. (1,361 kg)/2 mos | 35.1
| OAS | 900 lbs. (408 kg)/2 mos | 26.8

Bocaccio Rockfish South of 40°10′ N Lat.

Bocaccio on the West Coast is managed as a separate stock south of 40°10′ N lat., while bocaccio north of 40°10′ N lat. is managed as part of the minor shelf rockfish complex north of 40°10′ N lat. Bocaccio south of 40°10′ N lat., the subject of this action, is caught both commercially and recreationally, with commercial vessels harvesting it with both trawl and fixed gear (longlines and pots/traps) in the bottom trawl, nearshore, limited entry, and open access fixed gear fisheries. It is caught in shelf and nearshore areas, often together with chilipepper rockfish. The 2024 ACL and harvest guideline for bocaccio south of 40°10′ N lat. are 1,828 mt, and 1,779.9 mt, respectively.

Subsequent to the June 2023 Council meeting, the Council recommended and NMFS implemented increases to the bocaccio trip limits for the LE and OA sectors through table 2 South and table 3 South such that the new limits were set at 8,000 lb (3,629 kg) per period for LE and 6,000 pounds (2,721 kg) per period for OA. Subsequent to the September 2023 Council meeting, the Council recommended revising the bocaccio trip limits between 40°10 ′ and 34°27′ N lat. for both sectors due to concerns due to quillback rockfish off California. NMFS implemented via inseason action a zero bag limit for bocaccio in the LE sector for period 6 in 2023 and a gear restriction for the existing bag limit for bocaccio in the OA sector (see 88 FR 67656, October 2, 2023). As part of the November 2023 analysis, the GMT concluded that there is minimal expected impact of target fishing for bocaccio on quillback rockfish as bocaccio is a midwater species and quillback rockfish are demersal and therefore they are not co-occurring. Therefore, the Council recommended applying the trip limits in place for each sector for periods 1-5 to period 6 for 2024. NMFS is implementing this change through revisions to table 2 South and table 3 South.

Other Flatfish

Fishing for “other flatfish ” off California as defined at § 660.11 General definitions (between 42° N lat. south to the U.S./Mexico border) is allowed within the non-trawl RCA with hook and line gear only (§ 660.330(d)(12)(iv)). To prevent the possible interaction with quillback rockfish within the RCA, the Council recommended reducing the “other flatfish” trip limit to 0 lbs./2 months between 42° N lat. to 36° N lat. inside the Non-Trawl RCA, and maintaining the current trip limits seaward of the Non-Trawl RCA. This modification would allow for the opportunity to land other flatfish caught seaward of the RCA while preventing interactions with quillback rockfish.

Lingcod

Prior to the November 2023 meeting, the GMT received a request to increase the lingcod trip limits north of 42° N lat. to reduce regulatory discarding and increase economic opportunity. Status quo is currently resulting in regulatory discard for certain participants in the fishery. Lingcod is managed with an ACL north of 40°10′ N lat. and an ACL south of 40°10′ N lat. The 2024 ACL for lingcod north of 40°10′ N lat. is 3,854 mt.

To evaluate potential increases to lingcod trip limits north of 42° N lat., the GMT made model-based landings projections under current regulations and alternative trip limits, including the limits ultimately recommended by the Council, for the LE and OA fisheries through the remainder of the year. Table 3 shows the projected lingcod landings, the lingcod allocations, and the projected attainment percentage by fishery under both the current trip limits and the Council's recommended adjusted trip limits for north of 42° N lat. These projections were based on the most recent catch information available through late October 2023.

Table 3—Projected Landings of Lingcod, Lingcod Allocation, and Projected Percentage of Lingcod North of 42° N Lat. Attained Through the End of the Year by Trip Limit and Fishery
Fishery | Trip limits | Projected landings (round weight) (mt)
LE North of 42° N lat | Current: 9,000 lb. (4,082.3 kg)/two months | 157.63
OA North of 42° N lat | Current: 4,500 lb. (2,041.2 kg)/month
LE North of 42° N lat | Recommended: 11,000 lb. (4,989.5 kg)/two months | 173.45
OA North of 42° N lat | Recommended: 5,500 lb. (2,494.8 kg)/month

Under the current trip limits, the model predicts catches of lingcod north of 42° N lat. will total 157.63 mt, which is 8 percent of the 2024 non-trawl allocation of lingcod (1,965.9 mt). Under the Council's recommended trip limits, lingcod mortality north of 42° N lat. is expected to increase to 173.45 mt, which is 9 percent of the 2024 non-trawl allocation of lingcod.

Trip limit increases for lingcod are intended to marginally increase attainment of the non-trawl allocation. The recommended trip limit increases do not appreciably change projected impacts to yelloweye rockfish (a co-occurring rebuilding species) compared to the impacts anticipated in the 2023-2024 harvest specifications because the projected impacts to those species assume that the entire lingcod ACL is harvested. Therefore, the Council recommended and NMFS is implementing, by modifying table 2 North to part 660, subpart E, and table 3 North to part 660, subpart F, trip limit changes for LE and OA lingcod north of 42° N lat. for all cumulative periods in 2024 as shown above in table 3.

Canary Rockfish

At the November 2023 meeting, the GMT evaluated a request to decrease the 2024 canary rockfish trip limits for the LE fixed gear and OA in light of the 2023 stock assessment indicating canary rockfish are below the healthy biomass management target. The request was to reverse a trip limit increase that was implemented pursuant to a November 2022 inseason action (88 FR 4910, January 26, 2023). Table 4 provides the projected landings, mortality, and attainment of the commercial share of canary under the status quo and under the recommended decrease in the limits.

Table 4—Options To Decrease Canary Trip Limits by Period in the LEN, OAN, LES, and OAS Sectors, Associated Landings Projections, Estimated Mortality, and Non-Trawl Commercial Share Attainment
[Bolded row represents the GMT recommendation that was adopted by the Council]
Option | Sector | Trip limit | Landing projection (mt) | Est. total landings (mt) | Est. discard mortality (mt) | Est. total mortality (mt) | % of the 2024 non-trawl commercial share (122.4 mt)
No Action | LEN | 4,000 lbs. (1,814 kg)/2 mos | 5.4 | 31.3 | 0.8 | 32.0 | 26
| OAN | 2,000 lbs. (907 kg)/2 mos | 3.9
| LES | 4,000 lbs. (1,814 kg)/2 mos | 8.7
| OAS | 2,000 lbs. (907 kg)/2 mos | 13.3
Option 1 | LEN | 3,000 lbs. (1,361 kg)/2 mos | 4.0 | 23.9 | 0.6 | 24.5 | 20
| OAN | 1,000 lbs. (454 kg)/2 mos | 3.4
| LES | 3,500 lbs. (1,588 kg)/2 mos | 6.5
| OAS | 1,500 lbs. (680 kg)/2 mos | 10.0

Therefore, the Council recommended, and by modifying tables 2 North and South and tables 3 North and South, NMFS is implementing a revision to the LE and OA trip limits for all cumulative periods in 2024 as shown in table 4 above. The adjustment will provide proactive adjustment looking to the 2025-2026 biennium.

Longleader (Holloway Gear)—Oregon Recreational Fishery

The longleader gear is used to harvest midwater rockfish seaward of the 40-fathom regulatory line. Due to low impacts to yelloweye rockfish and other benthic species, the bag limit for this fishery has been higher than the nearshore traditional bottomfish bag limit. In 2023, the bag limit was increased from 10 fish to 15 fish as a way to further entice anglers to participate in the offshore fishery to alleviate some of the fishing pressure from the nearshore reefs. For 2024, the GMT recommended decreasing the Oregon longleader fishery bag limit to 12 fish due to an increase of canary rockfish, a limiting stock, encountered in the fishery and to be consistent with state regulatory action which decreased bag limits in state waters. Consequently, the Council recommended and NMFS is implementing this change in the bag limit by modifying 50 CFR 660.360(c)(2)(iii)(A).

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting the NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. Changes of this nature were anticipated in the final rule for the 2023-24 harvest specifications and management measures which published on December 16, 2022 (87 FR 76007). The majority of the adjustments to management measures in this action address a conservation concern for quillback rockfish off of California as new information demonstrates the current management measures are not sufficient to control mortality as is needed. Therefore, providing a comment period for this action could hamper the adherence to scientifically informed reference points, created to ensure sustainability of the affected fisheries, and would delay measures intended to address localized depletion of quillback rockfish. In addition, by allowing for fishing in areas where quillback rockfish are not likely to occur and through trip limit increases for lingcod, this action is expected to potentially increase economic value of the fisheries by increasing harvest opportunity and reducing regulatory discards. Delaying implementation to allow for public comment would likely reduce the economic benefits to the commercial fishing industry and the businesses that rely on that industry, because the new regulations could not be implemented in time to realize the projected benefits to fishing communities. For these same reasons, NMFS finds reason to waive the 30-day delay in effectiveness pursuant to 5 U.S.C. 553(d)(1) so that this final rule may become effective on January 1, 2024, for the start of the new fishing year.

List of Subjects in 50 CFR Part 660

Fisheries, Fishing, Indian Fisheries.

Dated: November 20, 2023.
Kelly Denit,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise table 2 (North) to part 660, subpart E, to read as follows:

BILLING CODE 3510-22-P

3. Revise table 2 (South) to part 660, subpart E, to read as follows:

4. Revise table 3 (North) to part 660, subpart F, to read as follows:

5. Revise table 3 (South) to part 660, subpart F, to read as follows:

6. Amend § 660.360 by revising paragraph (c)(2)(iii)(A) to read as follows:

§ 660.360 Recreational fishery—management measures.

* * * * *

(c) * * *

(2) * * *

(iii) * * *

(A) Marine fish. The bag limit is 10 marine fish per day, which includes rockfish, kelp greenling, cabezon, and other groundfish species; except the daily bag limit in the long-leader gear fishery is 12 fish per day. The bag limit of marine fish excludes Pacific halibut, salmonids, tuna, perch species, sturgeon, sanddabs, flatfish, lingcod, striped bass, hybrid bass, offshore pelagic species and baitfish (herring, smelt, anchovies and sardines). The minimum size for cabezon retained in the Oregon recreational fishery is 16 in (41 cm) total length.

* * * * *

[FR Doc. 2023-26018 Filed 11-28-23; 8:45 am]

BILLING CODE 3510-22-C